DEPARTMENT OF HEALTH AND HUMAN SERVICES

Substance Abuse and Mental Health Services Administration (SAMHSA)

Notice of Meetings

Pursuant to Public Law 92-463, notice is hereby given of the following meetings of SAMHSA Special Emphasis Panels I in June, July, and August 2001.

A summary of the meetings and a roster of the members may be obtained from: Ms. Coral Sweeney, Review Specialist, SAMHSA, Office of Policy and Program Coordination, Division of Extramural Activities, Policy, and Review, 5600 Fishers Lane, Room 17-89, Rockville, Maryland 20857. Telephone: 301-443-2998.

Substantive program information may be obtained from the individual named as Contact for the meetings listed below.

The meetings will include the review, discussion and evaluation of individual grant applications. These discussions could reveal personal information concerning individuals associated with the applications. Accordingly, these meetings are concerned with matters exempt from mandatory disclosure in Title 5 U.S.C. 552b© (4) and (6) U.S.C. App. 2, § 10(d).

Committee Name: SAMHSA Special Emphasis Panel I (SEP I).

Meeting Date: June 4-9, 2001.

Place: Bethesda Marriott, 5151 Pooks Hill Road, Bethesda, MD 20814.

Closed: Noon June 4-Adjournment.

Panel: Community Initiated Prevention Intervention, SP 01-001.

Contact: Coral Sweeney, Division of Extramural Activities, Policy and Review, Parklawn Building, 5600 Fishers Lane, Room 1789, Rockville, Maryland 20857.

Committee Name: SAMHSA Special Emphasis Panel I (SEP I).

Meeting Date: June 4-8, 2001.

Place: Bethesda Marriott, 5151 Pooks Hill Road, Bethesda, MD 20814.

Closed: Noon June 4, 2001-Adjournment.

Panel: Practice Research Collaboration, TI 01-001.

Contact: Coral Sweeney, Division of Extramural Activities, Policy and Review, Parklawn Building, 5600 Fishers Lane, Room 1789, Rockville, Maryland 20857.

Committee Name: SAMHSA Special Emphasis Panel I (SEP I).

Meeting Date: June 11-15, 2001.

Place: Bethesda Marriott, 5151 Pooks Hill Road, Bethesda, MD 20814.

Closed: Noon June 11, 2001-Adjournment.

Panel: Consumer Network, SM 01-02.

Contact: Coral Sweeney, Division of Extramural Activities, Policy and Review, Parklawn Building, 5600 Fishers Lane, Room 1789, Rockville, Maryland 20857.

Committee Name: SAMHSA Special Emphasis Panel I (SEP I).

Meeting Date: June 11-15, 2001.

Place: Bethesda Marriott, 5151 Pooks Hill Road, Bethesda, MD 20814.

Closed: Noon June 11, 2001-Adjournment.

Panel: Targeted Capacity Expansion/HIV, TI 01-007.

Contact: Coral Sweeney, Division of Extramural Activities, Policy and Review, Parklawn Building, 5600 Fishers Lane, Room 1789, Rockville, Maryland 20857.

Committee Name: SAMHSA Special Emphasis Panel I (SEP I).

Meeting Date: June 18-22, 2001.

Place: Bethesda Marriott, 5151 Pooks Hill Road, Bethesda, MD 20814.

Closed: Noon June 18, 2001-Adjournment.

Panel: Circles of Care, SM 01-011.

Contact: Coral Sweeney, Division of Extramural Activities, Policy and Review, Parklawn Building, 5600 Fishers Lane, Room 1789, Rockville, Maryland 20857.

Committee Name: SAMHSA Special Emphasis Panel I (SEP I).

Meeting Date: June 18-22, 2001.

Place: Bethesda Marriott, 5151 Pooks Hill Road, Bethesda, MD 20814.

Closed: Noon June 18, 2001-Adjournment.

Panel: Community Action Grants, PA 00-003.

Contact: Coral Sweeney, Division of Extramural Activities, Policy and Review, Parklawn Building, 5600 Fishers Lane, Room 1789, Rockville, Maryland 20857.

Committee Name: SAMHSA Special Emphasis Panel I (SEP I).

Meeting Date: June 18-22, 2001.

Place: Bethesda Marriott, 5151 Pooks Hill Road, Bethesda, MD 20814.

Closed: Noon June 18, 2001-Adjournment.

Panel: Addictions Treatment for Homeless, TI 01-006.

Contact: Coral Sweeney, Division of Extramural Activities, Policy and Review, Parklawn Building, 5600 Fishers Lane, Room 1789, Rockville, Maryland 20857.

Committee Name: SAMHSA Special Emphasis Panel I (SEP I).

Meeting Date: June 25-29, 2001.

Place: Bethesda Marriott, 5151 Pooks Hill Road, Bethesda, MD 20814.

Closed: Noon June 25, 2001-Adjournment.

Panel: Youth Violence Prevention Cooperative Agreements, SM 01-009.

Contact: Coral Sweeney, Division of Extramural Activities, Policy and Review, Parklawn Building, 5600 Fishers Lane, Room 1789, Rockville, Maryland 20857.

Committee Name: SAMHSA Special Emphasis Panel I (SEP I).

Meeting Date: July 9-13, 2001.

Place: Bethesda Marriott, 5151 Pooks Hill Road, Bethesda, MD 20814.

Closed: Noon July 9, 2001-Adjournment.

Panel: Minority HIV/AIDS Mental Health Services, SM 01-012.

Contact: Coral Sweeney, Division of Extramural Activities, Policy and Review, Parklawn Building, 5600 Fishers Lane, Room 1789, Rockville, Maryland 20857.

Committee Name: SAMHSA Special Emphasis Panel I (SEP I).

Meeting Date: July 9-13, 2001.

Place: Bethesda Marriott, 5151 Pooks Hill Road, Bethesda, MD 20814.

Closed: Noon July 9, 2001-Adjournment.

Panel: Recovery Community Support Program, TI 01-003.

Contact: Coral Sweeney, Division of Extramural Activities, Policy and Review, Parklawn Building, 5600 Fishers Lane, Room 1789, Rockville, Maryland 20857.

Committee Name: SAMHSA Special Emphasis Panel I (SEP I).

Meeting Date: July 9-13, 2001.

Place: Bethesda Marriott, 5151 Pooks Hill Road, Bethesda, MD 20814.

Closed: Noon July 9, 2001-Adjournment.

Panel: Strengthening Communities—Youth, TI 01-004.

Contact: Coral Sweeney, Division of Extramural Activities, Policy and Review, Parklawn Building, 5600 Fishers Lane, Room 1789, Rockville, Maryland 20857.

Committee Name: SAMHSA Special Emphasis Panel I (SEP I).

Meeting Date: July 16-20, 2001.

Place: Bethesda Marriott, 5151 Pooks Hill Road, Bethesda, MD 20814.

Closed: Noon July 16, 2001-Adjournment.

Panel: Statewide Family Networks, SM 01-004.

Contact: Coral Sweeney, Director, Division of Extramural Activities, Policy and Review, Parklawn Building, 5600 Fishers Lane, Room 1789, Rockville, Maryland 20857.

Committee Name: SAMHSA Special Emphasis Panel I (SEP I).

Meeting Date: July 16, 2001.

Place: Bethesda Marriott, 5151 Pooks Hill Road, Bethesda, MD 20814.

Closed: Entire Meeting.

Panel: Statewide Family Network Coordinating Center, SM 01-005.

Contact: Coral Sweeney, Division of Extramural Activities, Policy and Review, Parklawn Building, 5600 Fishers Lane, Room 1789, Rockville, Maryland 20857.

Committee Name: SAMHSA Special Emphasis Panel I (SEP I).

Meeting Date: July 16-20, 2001.

Place: Bethesda Marriott, 5151 Pooks Hill Road, Bethesda, MD 20814.

Closed: Noon July 16, 2001-Adjournment.

Panel: Targeted Capacity Expansion, CMHS, SM 01-007.

Contact: Coral Sweeney, Division of Extramural Activities, Policy and Review, Parklawn Building, 5600 Fishers Lane,Room 1789, Rockville, Maryland 20857.

Committee Name: SAMHSA Special Emphasis Panel I (SEP I).

Meeting Date: July 23-26, 2001.

Place: Bethesda Marriott, 5151 Pooks Hill Road, Bethesda, MD 20814.

Closed: Noon July 23, 2001-Adjournment.

Panel: High Risk Youth, SP 01-003.

Contact: Coral Sweeney, Division of Extramural Activities, Policy and Review, Parklawn Building, 5600 Fishers Lane, Room 1789, Rockville, Maryland 20857.

Committee Name: SAMHSA Special Emphasis Panel I (SEP I).

Meeting Date: July 23-27, 2001.

Place: Bethesda Marriott, 5151 Pooks Hill Road, Bethesda, MD 20814.

Closed: Noon July 23, 2001-Adjournment.

Panel: State Data Infrastructure, SM 01-006.

Contact: Coral Sweeney, Division of Extramural Activities, Policy and Review, Parklawn Building, 5600 Fishers Lane, Room 1789, Rockville, Maryland 20857.

Committee Name: SAMHSA Special Emphasis Panel I (SEP I).

Meeting Date: July 30-August 3, 2001.

Place: Bethesda Marriott, 5151 Pooks Hill Road, Bethesda, MD 20814.

Closed: Noon July 30, 2001-Adjournment.

Panel: High Risk Youth, SP 01-003.

Contact: Coral Sweeney, Division of Extramural Activities, Policy and Review, Parklawn Building, 5600 Fishers Lane, Room 1789, Rockville, Maryland 20857.

Committee Name: SAMHSA Special Emphasis Panel I (SEP I).

Meeting Date: August 6-8, 2001.

Place: Bethesda Marriott, 5151 Pooks Hill Road, Bethesda, MD 20814.

Closed: Noon August 6, 2001—Adjournment.

Panel: Addiction Technology Transfer Centers, TI 01-008.

Contact: Coral Sweeney, Division of Extramural Activities, Policy and Review, Parklawn Building, 5600 Fishers Lane, Room 1789, Rockville, Maryland 20857.

Committee Name: SAMHSA Special Emphasis Panel I (SEP I).

Meeting Date: August 13-17, 2001.

Place: Bethesda Marriott, 5151 Pooks Hill Road, Bethesda, MD 20814.

Closed: Noon August 13, 2001—Adjournment.

Panel: Restraint & Seclusion Training, SM 01-014.

Contact: Coral Sweeney, Division of Extramural Activities, Policy and Review, Parklawn Building, 5600 Fishers Lane, Room 1789, Rockville, Maryland 20857.

Committee Name: SAMHSA Special Emphasis Panel I (SEP I).

Meeting Date: August 20-24, 2001.

Place: Bethesda Marriott, 5151 Pooks Hill Road, Bethesda, MD 20814.

Closed: Noon August 20, 2001—Adjournment.

Panel: Minority HIV Prevention Initiative, SP-1-006.

Contact: Coral Sweeney, Division of Extramural Activities, Policy and Review, Parklawn Building, 5600 Fishers Lane, Room 1789, Rockville, Maryland 20857.

Committee Name: SAMHSA Special Emphasis Panel I (SEP I).

Meeting Date: August 27-31, 2001.

Place: Bethesda Marriott, 5151 Pooks Hill Road, Bethesda, MD 20814.

Closed: Noon August 27, 2001—Adjournment.

Panel: American Indian, American Alaskan Planning, TI 01-009.

Contact: Coral Sweeney, Division of Extramural Activities, Policy and Review, Parklawn Building, 5600 Fishers Lane,.

Room 1789, Rockville, Maryland 20857.

Committee Name: SAMHSA Special Emphasis Panel I (SEP I).

Meeting Date: August 27-31, 2001.

Place: Bethesda Marriott, 5151 Pooks Hill Road, Bethesda, MD 20814.

Closed: Noon August 27, 2001—Adjournment.

Panel: State Treatment Needs Assessment Program, TI 01-010.

Contact: Coral Sweeney, Division of Extramural Activities, Policy and Review, Parklawn Building, 5600 Fishers Lane, Room 1789, Rockville, Maryland 20857.

Coral Sweeney,
Review Specialist, Division of Extramural Activities and Review, Substance Abuse and Mental Health Services Administration.

[FR Doc. 01-12436 Filed 5-16-01; 8:45 am]

BILLING CODE 41620-20-P